DEPARTMENT OF COMMERCE

National Oceanic and Atmospheric Administration

50 CFR Part 697

[Docket No. 190816-0015]

RIN 0648-BJ10

Atlantic Coastal Fisheries Cooperative Management Act Provisions; American Lobster Fishery; Control Date for Lobster Conservation Management Areas

AGENCY: National Marine Fisheries Service (NMFS), National Oceanic and Atmospheric Administration (NOAA), Commerce.

ACTION: Advance notice of proposed rulemaking (ANPR); request for comments.

SUMMARY: The National Marine Fisheries Service (NMFS) announces a control date that may be used for potential changes to the lobster management program. This action is necessary to inform American lobster permit holders and any potential new entrants that future participation and eligibility may be affected by past participation, documentation of landings, effort, and/or gear configuration prior to the control date. The control date is intended to promote awareness of possible rulemaking and notify the public that actions taken after the control date may not be recognized in the future.

DATES: We must receive written comments on or before September 23, 2019.

ADDRESSES: You may submit comments on this document, identified by [NOAA-NMFS-2019-0095] by any of the following methods:

Electronic Submission: Submit all electronic public comments via the Federal e-Rulemaking Portal. Go to [NOAA-NMFS-2019-0095], click the “Comment Now!” icon, complete the required fields, and enter or attach your comments.

Mail: Submit written comments to Michael Pentony, Regional Administrator, National Marine Fisheries Service, 55 Great Republic Drive, Gloucester, MA 01930. Mark the outside of the envelope, “Comments on Lobster Control Date.”

Instructions: Comments must be submitted by one of the above methods to ensure that the comments are received, documented, and considered by NMFS. We may not consider comments sent by any other method, to any other address or individual, or received after the end of the comment period. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). We accept attachments to electronic comments only in Microsoft Word or Excel, WordPerfect, or Adobe PDF file formats.

FOR FURTHER INFORMATION CONTACT: Laura Hansen, Fishery Management Specialist, 978-281-9225.

SUPPLEMENTARY INFORMATION:

Background

NMFS works cooperatively with the states to conserve the American lobster resource within the framework of the Atlantic States Marine Fisheries Commission's Interstate Fishery Management Plan for American Lobster (ISFMP). Through the ISFMP, the Commission adopts fishery conservation and management strategies for the American lobster resource and coordinates the efforts of the states and NMFS to implement these strategies.

To carry out Congressionally-mandated responsibilities under the Endangered Species Act and Marine Mammal Protection Act (MMPA), NMFS convened the Atlantic Large Whale Take Reduction Team (TRT) during the last week of April 2019. The TRT is composed of representatives from state and Federal fishery agencies, conservation groups, researchers, and the fishing industry, including the lobster industry. As required under the MMPA, the TRT is tasked with recommending management measures to reduce the risk of serious injury and entanglement of endangered whales in fishing gear. At the meeting, the New England states and the offshore lobster industry committed to reducing the risk of serious injury and mortality from lobster gear to North Atlantic right whales by 60 percent in all lobster management areas. The specific measures to achieve this goal are not yet finalized, but will focus on reducing the number, and lowering the breaking strength of, vertical lines used in the lobster trap fishery.

Following the outcome of the TRT meeting, the Commission met and voted to establish a control date of April 29, 2019, to notify American lobster permit holders and any potential new entrants that future participation and eligibility may be affected by past participation, documentation of landings, effort, and/or gear configuration prior to the control date. Participation in the fishery after the control date may not be treated the same as participation before the control date. NMFS will use April 29, 2019, as a control date for the same reasons outlined by the Commission. In the coming months, NMFS will be working with the states and the industry to develop more specific management measures to achieve the goals recommended by the TRT. Should the Commission take additional action, NMFS will consider complementary action pursuant to the Atlantic Coastal Fisheries Cooperative Management Act and the Magnuson-Stevens Fishery Conservation and Management Act.

This notification and control date do not impose any legal obligations, requirements, or expectation.

Authority: 16 U.S.C. 1801 et seq.; 16 U.S.C. 5101 et seq.

Dated: August 19, 2019.
Alan D. Risenhoover,
Acting Deputy Assistant Administrator for Regulatory Programs, National Marine Fisheries Service.

[FR Doc. 2019-18096 Filed 8-21-19; 8:45 am]

BILLING CODE 3510-22-P